ENVIRONMENTAL PROTECTION AGENCY

40 CFR Part 300

[EPA-HQ-SFUND-1994-0001; FRL-9274-1]

National Oil and Hazardous Substances Pollution Contingency Plan; National Priorities List: Partial Deletion of the AT&SF Albuquerque Superfund Site

AGENCY: Environmental Protection Agency.

ACTION: Final rule.

SUMMARY: The Environmental Protection Agency (EPA) Region 6 announces the deletion of the northern 62-acre parcel of the AT&SF Albuquerque Superfund Site (Site) located in Albuquerque, Bernalillo County, New Mexico, from the National Priorities List (NPL). The NPL, promulgated pursuant to section 105 of the Comprehensive Environmental Response, Compensation, and Liability Act (CERCLA) of 1980, as amended, is an appendix of the National Oil and Hazardous Substances Pollution Contingency Plan (NCP). This partial deletion pertains to the soil and ground water associated with the northern 62-acre parcel. After this deletion, these 62 acres will no longer be part of the Site. The other 27 acres will remain on the NPL and are not being considered for deletion as part of this action. The EPA and the State of New Mexico, through the New Mexico Environment Department (NMED), have determined that all appropriate response actions for this parcel under CERCLA, other than operation, maintenance, and five-year reviews, have been completed. However, the deletion of these parcels does not preclude future actions under Superfund.

DATES: Effective Date: This action is effective March 2, 2011.

ADDRESSES: EPA has established a docket for this action under Docket Identification No. EPA-HQ-SFUND-1994-0001. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories. Locations, contacts, and phone numbers are:

• U.S. EPA Region 6 Library, 7th Floor, 1445 Ross Avenue, Suite 1200, Dallas, Texas 75202-2733, (214) 665-6424;

• Albuquerque Public Library, Main Downtown Branch, 501 Copper Avenue, NW., Albuquerque, New Mexico 87102, Contact: John Vittal; and,

• New Mexico Environment Department, Harold Runnels Building, 1190 St. Francis Drive, Santa Fe, New Mexico 87505.

FOR FURTHER INFORMATION CONTACT: Katrina Higgins-Coltrain, Remedial Project Manager (RPM), U.S. EPA Region 6 (6SF-RL), 1445 Ross Avenue, Dallas, TX 75202-2733, (214) 665-8143 or 1-800-533-3508 (coltrain.katrina@epa.gov).

SUPPLEMENTARY INFORMATION:

The portion of the site to be deleted from the NPL is: Northern 62-acre parcel of the AT&SF Albuquerque Superfund Site, located in Albuquerque, Bernalillo County, New Mexico. A Notice of Intent for Partial Deletion for this Site was published in the Federal Register on January 5, 2011 (76 FR 510).

The closing date for comments on the Notice of Intent for Partial Deletion was February 4, 2011. One anonymous public comment was received and supported the partial deletion of the Site. EPA, in conjunction with the NMED, believes the partial deletion action remains appropriate.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: February 16, 2011.
Al Armendariz,
Regional Administrator, Region 6.

For reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR 1991 Comp., p. 351; E.O. 12580, 52 FR 2923, 3 CFR 1987 Comp., p. 193.

2. Table 1 of Appendix B to part 300 is amended by revising the entry under NM for “AT&SF (Albuquerque)” to read as follows:

Appendix B to Part 300—National Priorities List

Table 1—General Superfund Section
State | Site name | City/County | Notes (a)
* * * * * * *
NM | AT&SF Albuquerque | Albuquerque | P
* * * * * * *
(a) * * *
P = Sites with partial deletion(s).

[FR Doc. 2011-4650 Filed 3-1-11; 8:45 am]

BILLING CODE 6560-50-P